DEPARTMENT OF TRANSPORTATION

Office of the Secretary

14 CFR Part 382

[Docket No. OST-2004-19482]

RIN 2105-AC97

Nondiscrimination on the Basis of Disability in Air Travel

AGENCY: Office of the Secretary (OST), U.S. Department of Transportation (DOT).

ACTION: Extension of comment period on proposed rule.

SUMMARY: The Department is extending through March 4, 2005, the period for interested persons to submit comments to its proposed rule to amend regulations implementing the Air Carrier Access Act.

DATES: Comments must be received by March 4, 2005. Comments received after this date will be considered to the extent practicable.

ADDRESSES: Please include the docket number of this document in all comments submitted to the docket. Written comments should be sent to Docket Clerk, Department of Transportation, 400 7th Street, SW., Room PL-401, Washington, DC 20590. For confirmation of the receipt of written comments, commenters may include a stamped, self-addressed postcard. The Docket Clerk will date-stamp the postcard and mail it back to the commenter. Comments will be available for inspection at this address from 10 a.m. to 5:30 p.m., Monday through Friday. Comments can also be reviewed through the Dockets Management System (DMS) pages of the Department's Web site (http://dms.dot.gov). Commenters may also submit comments electronically. Instructions appear on the DMS Web site.

FOR FURTHER INFORMATION CONTACT: Robert C. Ashby, Deputy Assistant General Counsel for Regulation and Enforcement, 400 7th Street, SW., Room 10424, Washington DC., 20590. Phone 202-366-9310; TTY: 202-755-7687; Fax: 202-366-9313. E-mail: bob.ashby@ost.dot.gov.

SUPPLEMENTARY INFORMATION: On November 4, 2004, the Department of Transportation issued a notice of proposed rulemaking (NPRM) that would amend 49 CFR Part 382, the Department's regulation implementing the Air Carrier Access Act (69 FR 64364). The NPRM would apply the requirements of Part 382 to foreign air carriers, require air carrier web sites to be accessible to persons with impaired vision, and generally update and improve the organization of the existing regulation. The original comment closing date was February 2, 2005.

The Air Transport Association (ATA) requested an extension of the comment period, in order to permit them to gather additional information from their members and present better-informed comments to the Department. They requested a 30-day extension of the comment period. This request was supported by comments from the International Air Transport Association, Regional Airline Association, and Air Carrier Association of America.

The Department is granting the requested extension, which we hope will result in more thorough comments to the docket than might otherwise be possible, not only from ATA. We also urge, given the additional time provided by this extension, that commenters make every effort to provide detailed data concerning the issues they raise.

Therefore, the Department of Transportation will extend the comment period 30 days, ending March 4, 2005. We do not anticipate the need for any further extensions.

Issued this 19th day of January, 2005, at Washington, DC.
Jeffrey A. Rosen,
General Counsel.

[FR Doc. 05-1562 Filed 1-26-05; 10:08 am]

BILLING CODE 4910-62-P